DEPARTMENT OF TRANSPORTATION

Federal Aviation Administration

14 CFR Part 71

[Docket No. FAA-2003-16079; Airspace Docket No. 03-ACE-71]

Establishment of Class E4 Airspace; and Modification of Class E5 Airspace; Goodland, KS.

AGENCY: Federal Aviation Administration (FAA), DOT.

ACTION: Final rule.

SUMMARY: This rule establishes a Class E airspace area designated as an extension to the existing Class E surface area and modifies Class E airspace extending upward from 700 feet above the surface at Goodland, KS. These actions are to accommodate new and amended Standard Instrument Approach Procedures (SIAPs) developed to serve Renner Field-Goodland Municipal Airport, Goodland, KS. The effect of this rule is to provide appropriate controlled Class E airspace for aircraft executing instrument approach procedures to Renner Field-Goodland Municipal Airport and to segregate aircraft using instrument approach procedures in instrument conditions from aircraft operating in visual conditions.

DATES: 0901 UTC, December 25, 2003.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

On Monday, September 22, 2003, the FAA proposed to amend 14 CFR part 71 by establishing a Class E airspace area designated as an extension to the Class E surface area and revising the Class E airspace area extending upward from 700 feet or more above the surface at Goodland, KS (68 FR 55015) [FR Doc. 03-24143]. Area Navigation (RNAV) Global Positioning System (GPS) Runway (RWY) 30, ORIGINAL SIAP; RNAV (GPS) RWY 12, ORIGINAL SIAP; RNAV (GPS) RWY 23, ORIGINAL SIAP; Instrument Landing System (ILS) or Localizer (LOC)/Distance Measuring Equipment (DME) RWY 30, ORIGINAL SIAP; VHF Omni-directional Range (VOR) RWY 30, AMENDMENT 8 SIAP; Nondirectional Radio Beacon (NDB) RWY 30, AMENDMENT 7 SIAP; and VOR/DME RWY 30, AMENDMENT 7 SIAP have been developed to serve Renner Field-Goodland Municipal Airport. The proposal was to provide appropriate controlled airspace to contain aircraft executing the approach procedures. Interested parties were invited to participate in this rulemaking proceeding by submitting written comments on the proposal to the FAA. No comments objecting to the proposal were received.

Class E airspace areas designated as an extension to a Class D or Class E surface area are published in Paragraph 6004 of FAA Order 7400.9L, dated September 2, 2003, and effective September 16, 2004, which is incorporated by reference in 14 CFR 71.1. Class E airspace areas extending upward from 700 feet or more above the surface of the earth are published in Paragraph 6005 of the same Order. The Class E airspace designations listed in this document will be subsequently published in the Order.

The Rule

This amendment to Title 14 Code of Federal Regulations, part 71 (14 CFR part 71) establishes a Class E airspace area designated as an extension to the Class E surface area and modifies the Class E airspace area extending upward from 700 feet or more above the surface at Goodland, KS. These actions provide appropriate controlled Class E airspace for aircraft executing instrument approach procedures to Renner Field-Goodland Municipal Airport and segregate aircraft using instrument approach procedures in instrument conditions from aircraft operating in visual conditions. The airspace areas will be depicted on appropriate aeronautical charts.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§71.1 [Amended]

2. The incorporation by reference in 14 CFR 71.1 of Federal Aviation Administration Order 7400.9L, Airspace Designations and Reporting Points, dated September 2, 2003, and effective September 16, 2003, is amended as follows:

Paragraph 6004 Class E airspace areas designated as an extension to Class D or Class E Surface area.

* * * * *

ACE KS E4 Goodland, KS

Renner Field-Goodland Municipal Airport, KS

(Lat. 39°22′14″ N, long. 101°41′56″ W)

Goodland VORTAC

(Lat. 39°23′16″ N, long. 101°41′32″ W)

That airspace extending upward from the surface within 2.4 miles each side of the Goodland VORTAC 164° radial extending from the 4.1-mile radius of Renner Field-Goodland Municipal Airport to 7 miles southeast of the VORTAC.

* * * * *

Paragraph 6005 Class E airspace areas extending upward from 700 feet or more above the surface of the earth.

* * * * *

ACE KS E5 Goodland, KS

Renner Field-Goodland Municipal Airport, KS

(Lat. 39°22′14″ N, long. 101°41′56″ W)

That airspace extending upward from 700 feet above the surface within a 6.6-miles radius of Renner Field-Goodland Municipal Airport.

* * * * *

Issued in Kansas City, MO, on October 27, 2003.
Paul J. Sheridan,
Acting Manager, Air Traffic Divison, Central Region

[FR Doc. 03-28538 Filed 11-13-03; 8:45 am]

BILLING CODE 4910-13-M